DEPARTMENT OF ENERGY

Federal Energy Regulatory Commission

[Docket No. RP03-293-000]

Southern Natural Gas Company; Notice of Proposed Changes to FERC Gas Tariff

March 6, 2003.

Take notice that on February 28, 2003, Southern Natural Gas Company (Southern) tendered for filing the following tariff sheets to its FERC Gas Tariff, First Revised Volume No. 2A (Volume 2A):

Effective April 1, 2003.

Cover Sheet.

Second Revised Sheet No. 1.

Second Revised Sheet No. 2.

Second Revised Sheet No. 38.

Effective October 1, 2000.

First Revised Sheet No. 107.

The proposed tariff sheets cancel rate schedules CSS-1, CSS-2 and ST-1 in Volume 2A of Southern's tariff. By order dated January 30, 2003, in Docket No. CP03-21, the Commission authorized the abandonment of the storage services. The storage services associated with these rate schedules were abandoned upon the termination of the primary term of the contracts relating to these services.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 12, 2003.

Magalie R. Salas,
Secretary.

[FR Doc. 03-6035 Filed 3-12-03; 8:45 am]

BILLING CODE 6717-01-P